OFFICE OF PERSONNEL MANAGEMENT

Excepted Service

AGENCY: Office of Personnel Management.

ACTION: Notice.

SUMMARY: This notice identifies Schedule A, B, and C appointing authorities applicable to a single agency that were established or revoked from March 1, 2020 to March 31, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during March 2020.

Schedule B

No Schedule B Authorities to report during March 2020.

Schedule C

The following Schedule C appointing authorities were approved during March 2020.

Agency name | Organization name | Position title | Authorization No. | Effective date
DEPARTMENT OF AGRICULTURE | National Institute of Food and Agriculture | Policy Advisor | DA200049 | 03/04/2020
| Natural Resources Conservation Service | Chief of Staff | DA200065 | 03/23/2020
| Office of the Secretary | Advance Associate | DA200043 | 03/30/2020
|  | Legislative Correspondent | DA200051 | 03/30/2020
DEPARTMENT OF COMMERCE | Immediate Office | Special Advisor | DC200068 | 03/04/2020
| Office of International Trade Administration | Special Advisor | DC200065 | 03/04/2020
| Office of National Telecommunications and Information Administration | Senior Advisor | DC200034 | 03/06/2020
| Office of Policy and Strategic Planning | Special Assistant | DC200067 | 03/04/2020
| Office of the White House Liaison | Deputy White House Liaison | DC200080 | 03/09/2020
|  | White House Liaison | DC200084 | 03/13/2020
DEPARTMENT OF DEFENSE | Office of the Assistant to the Secretary of Defense (Public Affairs) | Special Assistant (3) | DD200122 | 03/11/2020
|  |  | DD200136 | 03/27/2020
|  |  | DD200115 | 03/30/2020
| Office of the Under Secretary of Defense (Policy) | Special Assistant | DD200113 | 03/25/2020
DEPARTMENT OF THE ARMY | Office of the Assistant Secretary of the Army (Financial Management and Comptroller) | Special Assistant | DW200027 | 03/27/2020
DEPARTMENT OF EDUCATION | Office of the Secretary | Confidential Assistant | DB200042 | 03/05/2020
|  | Director, White House Liaison | DB200045 | 03/19/2020
| Office for Civil Rights | Confidential Assistant | DB200044 | 03/23/2020
|  | Attorney Advisor | DB200043 | 03/25/2020
DEPARTMENT OF ENERGY | Office of Science | Senior Advisor | DE200070 | 03/03/2020
| Office of Management | Operations Manager | DE200111 | 03/31/2020
ENVIRONMENTAL PROTECTION AGENCY | Office of Public Affairs | Assistant Deputy Associate Administrator for Policy | EP200048 | 03/05/2020
| Office of Public Engagement and Environmental Education | Special Advisor | EP200060 | 03/19/2020
| Office of the Administrator | Principal Deputy Chief of Staff | EP200047 | 03/05/2020
|  | Deputy Director for Advance | EP200059 | 03/31/2020
| Office of the Assistant Administrator for International and Tribal Affairs | Senior Advisor | EP200057 | 03/10/2020
| Office of the Associate Administrator for Congressional and Intergovernmental Relations | Director of House Relations | EP200050 | 03/27/2020
|  | Special Advisor for Oversight | EP200033 | 03/31/2020
EXPORT-IMPORT BANK | Office of Communications | Speechwriter | EB200011 | 03/24/2020
| Office of the Chief Banking Officer | Senior Advisor | EB200012 | 03/30/2020
GENERAL SERVICES ADMINISTRATION | Office of the Administrator | White House Liaison | GS200027 | 03/03/2020
|  | Deputy White House Liaison | GS200035 | 03/24/2020
DEPARTMENT OF HEALTH AND HUMAN SERVICES | Office of Refugee Resettlement/Office of the Director | Chief of Staff | DH200099 | 03/23/2020
DEPARTMENT OF HOMELAND SECURITY | Office of the Secretary | White House Liaison | DM200188 | 03/10/2020
| Office of the Assistant Secretary for Policy | Senior Advisor | DM200138 | 03/25/2020
|  | Special Assistant DM200164 03/27/2020
DEPARTMENT OF HOUSING AND URBAN DEVELOPMENT | Office of Community Planning and Development | Senior Advisor | DU200054 | 03/05/2020
| Office of Public Affairs | Digital Strategist | DU200080 | 03/17/2020
| Office of Field Policy and Management | Advisor | DU200087 | 03/23/2020
DEPARTMENT OF JUSTICE | Office of Civil Division | Counsel (2) | DJ200049 | 03/06/2020
|  |  | DJ200066 | 03/06/2020
| Office of Justice Programs | Chief of Staff | DJ200081 | 03/03/2020
|  | Senior Advisor (2) | DJ190201 | 03/17/2020
|  |  | DJ200075 | 03/23/2020
| Office of Public Affairs | Press Assistant | DJ200045 | 03/06/2020
| Office of the Attorney General | Special Assistant | DJ200086 | 03/06/2020
DEPARTMENT OF LABOR | Office of the Secretary | Principal Travel Aide | DL200089 | 03/13/2020
| Office of Congressional and Intergovernmental Affairs | Regional Representative | DL200074 | 03/15/2020
| Office of Veterans Employment and Training Service | Special Assistant | DL200080 | 03/23/2020
| Office of Public Liaison | Deputy Director | DL200093 | 03/31/2020
NATIONAL TRANSPORTATION SAFETY BOARD | National Transportation Safety Board | Confidential Assistant | TB200004 | 03/23/2020
OFFICE OF MANAGEMENT AND BUDGET | Office of Education, Income Maintenance and Labor Programs | Special Assistant | BO200024 | 03/30/2020
| Office of the Director | Confidential Assistant | BO200025 | 03/31/2020
OFFICE OF PERSONNEL MANAGEMENT | Office of the Director Senior Advisor | Executive Secretariat and Resources Management Officer Executive Secretariat and Resources Management Officer | PM200038 PM200043 | 03/27/2020 03/31/2020
OFFICE OF THE UNITED STATES TRADE REPRESENTATIVE | Office of the Ambassador | Executive Secretary | TN200003 | 03/18/2020
OFFICIAL RESIDENCE OF THE VICE PRESIDENT | Office of Official Residence of the Vice President | Deputy Social Secretary | RV200001 | 03/10/2020
SMALL BUSINESS ADMINISTRATION | Office of Congressional and Legislative Affairs | Deputy Assistant Administrator | SB200020 | 03/27/2020
| Office of Capital Access | Special Assistant | SB200011 | 03/30/2020
| Office of the Administrator | White House Liaison | SB200019 | 03/30/2020
DEPARTMENT OF STATE | Bureau of Near Eastern Affairs | Deputy Assistant Secretary | DS200045 | 03/03/2020
DEPARTMENT OF TRANSPORTATION | Office of the Administrator Office of the Assistant Secretary for Governmental Affairs Senior Governmental Affairs Officer | Director of Governmental Affairs | DT200096 DT200094 | 03/24/2020 03/16/2020
| Office of the Assistant Secretary for Transportation Policy | Special Assistant for Public Engagement and External Outreach | DT200091 | 03/16/2020
|  | Public Liaison and Engagement Advisor | DT200072 | 03/27/2020
| Immediate Office of the Administrator | Governmental Affairs Officer | DT200088 | 03/27/2020
| Office of Public Affairs | Digital Communications Manager | DT200093 | 03/16/2020
|  | Special Assistant | DT200085 | 03/27/2020
| Office of the Secretary | Special Assistant (2) | DT200090 | 03/16/2020
|  |  | DT200092 | 03/19/2020
DEPARTMENT OF THE TREASURY | Secretary of the Treasury | White House Liaison | DY200073 | 03/23/2020
DEPARTMENT OF VETERANS AFFAIRS | Office of the Assistant Secretary for Congressional and Legislative Affairs | Special Advisor | DV200048 | 03/18/2020

The following Schedule C appointing authorities were revoked during March 2020.

Agency name | Organization name | Position title | Request number | Date vacated
COMMODITY FUTURES TRADING COMMISSION | Office of the Chairperson | Legislative Specialist | CT190001 | 03/31/2020
OFFICE OF THE SECRETARY OF DEFENSE | Office of the General Counsel Office of the Under Secretary of Defense (Acquisition, Technology, and Logistics) | Attorney-Advisor (General) Director, Congressional and Strategic Outreach | DD190022 DD180100 | 03/07/2020 03/07/2020
| Office of the Secretary | Protocol Officer (2) | DD190179 | 03/14/2020
|  |  | DD200107 | 03/27/2020
| Washington Headquarters Services | AttorneyAdvisor (General) | DD190031 | 03/28/2020
DEPARTMENT OF THE NAVY | Department of the Navy | Special Assistant to the Chief of Staff | DN180003 | 03/28/2020
DEPARTMENT OF EDUCATION | Office of Communications and Outreach | Confidential Assistant | DB190086 | 03/28/2020
| Office of the Under Secretary | Executive Director, Center for Faith and Opportunity Initiatives | DB190029 | 03/28/2020
| Office of the Secretary | Director, White House Liaison | DB190034 | 03/31/2020
DEPARTMENT OF HEALTH AND HUMAN SERVICES | Office of the Secretary Office of Refugee Resettlement/Office of the Director | Deputy Scheduler Policy Advisor | DH200054 DH190096 | 03/06/2020 03/28/2020
DEPARTMENT OF HOUSING AND URBAN DEVELOPMENT | Office of Community Planning and Development | Deputy Assistant Secretary for Economic Development | DU190001 | 03/14/2020
|  | Senior Advisor (2) | DU180035 | 03/06/2020
|  |  | DU190071 | 03/21/2020
|  | Special Assistant | DU190030 | 03/14/2020
| Office of Congressional and Intergovernmental Relations | Congressional Relations Specialist Senior Advisor | DU190107 DU170084 | 03/04/2020 03/28/2020
| Office of Field Policy and Management | Assistant Advisor | DU190078 | 03/14/2020
| Office of Policy Development and Research | Special Policy Advisor | DU190038 | 03/28/2020
| Office of the Administration | Advance Coordinator | DU190062 | 03/28/2020
| Office of the Chief Financial Officer | Senior Advisor | DU190018 | 03/28/2020
| Office of the General Counsel | Paralegal Specialist | DU190013 | 03/28/2020
| Office of the Secretary | White House Liaison | DU200012 | 03/14/2020
|  | Special Assistant (2) | DU190050 | 03/28/2020
|  |  | DU190082 | 03/28/2020
DEPARTMENT OF JUSTICE | Office of Justice Programs | Senior Advisor | DJ180136 | 03/28/2020
| Office of the Attorney General | Special Assistant | DJ190066 | 03/30/2020
|  | Director of Scheduling | DJ190238 | 03/31/2020
DEPARTMENT OF LABOR | Office of the Assistant Secretary for Policy | Counselor to the Assistant Secretary | DL200005 | 03/18/2020
|  | Special Assistant | DL190058 | 03/19/2020
DEPARTMENT OF STATE | Bureau of Public Affairs | Senior Advisor | DS190060 | 03/20/2020
ENVIRONMENTAL PROTECTION AGENCY | Office of Public Affairs | Senior Advisor for Strategic Communications and Policy | EP190120 | 03/14/2020
| Office of the Administrator | Senior Advisor to the Administrator | EP190023 | 03/14/2020
FEDERAL COMMUNICATIONS COMMISSION | Office of Media Relations | Director | FC170008 | 03/14/2020
GENERAL SERVICES ADMINISTRATION | Office of the Administrator | Special Assistant to the Administrator and Chief Scheduler | GS190037 | 03/14/2020
OFFICE OF PERSONNEL MANAGEMENT | Office of the Director | Senior Advisor for Policy | PM200023 | 03/28/2020
SMALL BUSINESS ADMINISTRATION | Office of the Administrator | Senior Advisor Director of External Affairs and Strategic Engagement | SB180024 SB190007 | 03/14/2020 03/21/2020

(Authority: 5 U.S.C. 3301 and 3302; E.O. 10577, 3 CFR, 1954-1958 Comp., p. 218)

Office of Personnel Management.
Alexys Stanley,
Regulatory Affairs Analyst.

[FR Doc. 2020-26155 Filed 11-25-20; 8:45 am]

BILLING CODE 6325-39-P